DEPARTMENT OF THE INTERIOR

Bureau of Land Management

[UT-030-02-1330-EN]

Notice of Availability of Final Environmental Impact Statement and Record of Decision for 3R Minerals Coal Bed Canyon Mine

AGENCY: Department of the Interior, Bureau of Land Management, Utah State Office.

SUMMARY: In accordance with the National Environmental Policy Act of 1969, a Final Environmental Impact Statement (FEIS) and Record of Decision (ROD) for 3R Minerals Coal Bed Canyon Mine proposal on lands within Grand Staircase-Escalante National Monument, have been prepared and are available for review. The FEIS and ROD are being released concurrently for review as allowed by 40 CFR Sec. 1506.10(b)(2) for agencies that have a formally established appeal process.

The FEIS analyzes the anticipated impacts of 3R Minerals' proposed action and three alternatives to the proposal. The Record of Decision documents the decision of the Utah State Director of the Bureau of Land Management to approve the Notice of Intent to Revise Mining Plan of Operations according to Alternative B, the BLM Preferred Alternative, as described in the FEIS and subject to the mitigation, conditions of approval and monitoring plan described in the ROD.

DATES: The decision may be appealed as provided for in 43 CFR part 4. If an appeal is taken, the notice of appeal (and if also submitted, a petition for stay) must be post marked or received at the Utah State Office address shown below within 30 days of publication of this Federal Register Notice. Procedures for filing an appeal or petition for stay are described in the ROD.

ADDRESSES: Copies of the FEIS and ROD may be obtained from the following Bureau of Land Management Locations: Grand Staircase-Escalante National Monument Headquarters, 180 West 300 North, Kanab, Utah 84741; Grand Staircase-Escalante National Monument Escalante Field Station, 755 West Main, Escalante, Utah; Utah State Office, 324 South State Street, Suite 301, Salt Lake City, Utah. Copies may be obtained by mail by contacting the Monument Headquarters at the above address or telephoning 435-644-4300.

Any notice of appeal or petition for stay must be filed with the Utah State Director, Bureau of Land Management, P.O. Box 45155, Salt Lake City, UT 84145-0155.

FOR FURTHER INFORMATION CONTACT: Paul Chapman, Grand Staircase-Escalante National Monument Headquarters, 435-644-4309, or Kate Cannon, Monument Manager, Grand Staircase-Escalante National Monument Headquarters, 435-644-4330.

SUPPLEMENTARY INFORMATION: Mining activity is based on a mineral lease issued by the Utah School and Institutional Trust Lands Administration (SITLA) when the site was still State land. Although the lease was issued after the Monument was established, it occurred on State lands which were not affected by the Presidential Proclamation. 3R Minerals was granted approval to mine by appropriate State agencies and has been conducting limited mining activity on the site. Ownership of the land was exchanged to the Federal Government via the Utah Schools and Lands Exchange Act of 1998. Language in that act preserved 3R Minerals' existing right to mine.

On June 15, 1999, the BLM received 3R Minerals' Notice of Intent to Revise Mining Operations. Under the Lease and SITLA rules, any proposed changes to 3R Minerals' approved Plan of Operations would be subject to approval by the BLM. Such a decision is a Federal action to which the National Environmental Policy Act of 1969 (NEPA) applies. Based upon this review, an Environmental Impact Statement (EIS) was prepared to assess potential impacts to resources.

The SITLA Lease grants a valid and existing right for use of the surface estate if the action to be taken is reasonably necessary and expedient for the economic operation of the leasehold and furthers the production, treatment and disposition of the leased substances. The proposed modifications are all standard industry practices and are reasonably necessary to further the production, treatment and disposition of the leased substances. Therefore, the modification to the Notice of Intent to Commence Mining Operation's Plan of Operations is a reasonable exercise of the rights granted by Article IV of the Lease and is considered within the proponent's valid existing rights.

Environmental impacts from the proposed project and alternatives were considered in a Draft Environmental Impact Statement (DEIS), prepared and released for public review on October 6, 2000. The DEIS was reviewed by other Federal Agencies, State agencies, local government entities, and private organizations and individuals. Based on comments received on the DEIS, modifications and revisions were made and a Final Environmental Impact Statement (FEIS) was prepared. Details of the project, issues identified during the analysis process, alternatives, impacts, mitigation, and results of public participation are presented in the FEIS.

Dated: December 12, 2001.
Robert A. Bennett,
Associate State Director.

[FR Doc. 02-9047 Filed 4-12-02; 8:45 am]

BILLING CODE 4310-$$-P